DEPARTMENT OF AGRICULTURE

Animal and Plant Health Inspection Service

7 CFR Part 319

Foreign Quarantine Notices

CFR Correction

In Title 7 of the Code of Federal Regulations, parts 300 to 399, revised as of January 1, 2006, make the following corrections:

1. On page 378, in § 319.56-2d, paragraph (c), and on page 384, in § 319.56-2l, paragraph (b)(2)(ii), remove the title “Deputy Administrator of the Plant Protection and Quarantine Programs” and add in its place “Administrator”; and

2. On page 385, in § 319.56-2m, remove the table in paragraph (b).

[FR Doc. 06-55516 Filed 5-5-06; 8:45 am]

BILLING CODE 1505-01-D